NUCLEAR REGULATORY COMMISSION

[Docket No. 50-389]

Florida Power and Light Company, et al., St. Lucie Plant, Unit No. 2; Exemption

1.0 Background

The Florida Power and Light Company, et al. (FPL, the licensee) is the holder of Facility Operating License No. NPF-16, which authorizes operation of St. Lucie Unit No. 2. The license provides, among other things, that the facility is subject to all rules, regulations, and orders of the U.S. Nuclear Regulatory Commission (NRC, the Commission) now or hereafter in effect.

The facility consists of a pressurized water reactor located in St. Lucie County, Florida.

2.0 Purpose

Title 10 of the Code of Federal Regulations (10 CFR), part 54 addresses the various requirements for renewal of operating licenses for nuclear power plants. Section 54.17(c) of part 54 specifies:

An application for a renewed license may not be submitted to the Commission earlier than 20 years before the expiration of the operating license currently in effect.

By letter dated October 30, 2000, the licensee requested an exemption from 10 CFR 54.17(c) for St. Lucie Unit 2. At the time of the request, there were more than 22 years remaining until the expiration of the current operating license for St. Lucie Unit 2. The exemption would allow FPL to process and submit the St. Lucie Unit 2 license renewal application concurrent with the St. Lucie Unit 1 license renewal application. Because of the similarities in design, operation, maintenance, operating experience and environments of the two St. Lucie units, many of the analyses to be performed for Unit 1 would be directly applicable to Unit 2.

Based on an anticipated submittal of a renewal application in June 2002, this exemption would permit the licensee to submit a license renewal request for St. Lucie Unit 2 approximately 1 year earlier than the date specified by 10 CFR 54.17(c), in order to allow it to be prepared and submitted concurrently with the license renewal application for St. Lucie Unit 1.

3.0 Discussion

Pursuant to 10 CFR 54.15, the Commission may, upon application by any interested person or upon its own initiative, grant exemptions from the requirements of 10 CFR part 54, in accordance with the provisions of 10 CFR 50.12, when (1) the exemptions are authorized by law, will not present an undue risk to public health or safety, and are consistent with the common defense and security; and (2) when special circumstances are present.

The requirements for exemption are discussed below:

3.1 Authorized by Law

The Commission's basis for establishing the 20-year limit contained in Section 54.17(c) is discussed in the 1991 Statements of Consideration for Part 54 (56 FR 64963). The limit was established to ensure that substantial operating experience was accumulated by a licensee before a renewal application is submitted such that any plant-specific concerns regarding aging would be disclosed. In amending the rule in 1995, the Commission indicated that it was willing to consider plant-specific exemption requests by applicants who believe that sufficient information is available to justify applying for license renewal earlier than 20 years from expiration of the current license. FPL's exemption request is consistent with the Commission's intent to consider plant-specific requests and is permitted by Section 54.15 of its regulations.

3.2 No Undue Risk to Public Health and Safety

FPL's exemption request seeks only schedular relief regarding the date of submittal, and not substantive relief from the requirements of parts 51 or 54. FPL must still conduct all environmental reviews required by part 51 and all safety reviews and evaluations required by part 54 when preparing the applications for St. Lucie Units 1 and 2. Following submittal, the staff's review will verify that all applicable Commission regulations have been met before issuing the renewed licenses. Therefore, the staff finds that granting this schedular exemption will not represent an undue risk to public health and safety.

3.3 Consistent With the Common Defense and Security

As discussed previously, the exemption requested is only a schedular exemption. The NRC staff will subsequently review the renewal application to be submitted by FPL, pursuant to the requested exemption, to determine whether all applicable requirements are fully met. Accordingly, granting the requested exemption is consistent with the common defense and security.

3.4 Special Circumstances Supporting Issuance of the Exemption

An exemption will not be granted unless special circumstances are present as defined in 10 CFR 50.12(a)(2). Specifically, § 50.12(a)(2)(ii) states that a special circumstance exists when “application of the regulation in the particular circumstances * * * is not necessary to achieve the underlying purpose of the rule.” In initially promulgating § 54.17(c) in 1991, the Commission stated that the purpose of the time limit was “to ensure that substantial operating experience is accumulated by a licensee before it submits a renewal application” (56 FR 64963). At that time, the Commission found that 20 years of operating experience provided a sufficient basis for renewal applications. However, in issuing the amended part 54 in 1995, the Commission indicated it would consider an exemption to this requirement if sufficient information was available on a plant-specific basis to justify submission of an application to renew a license before completion of 20 years of operation (60 FR 22488). The 20-year limit was imposed by the Commission to ensure that sufficient operating experience was accumulated to identify any plant-specific aging concerns. As set forth below, St. Lucie Unit 2 is sufficiently similar to Unit 1, such that the operating experience for Unit 1 is applicable to Unit 2. In addition, Unit 2 has accumulated significant operating experience. Accordingly, under the requested exemption, sufficient operating experience will have been accumulated to identify any plant-specific aging concerns for both units.

The licensee states that the two St. Lucie units are similar in design, operation, maintenance, use of operating experience, and environments, and, as such, Unit 1 operating experience is directly applicable to Unit 2. Both St. Lucie units are 2700 megawatt (thermal) pressurized water reactors designed by Combustion Engineering, Inc., with the same architect/engineer. The licensee states that the materials of construction for systems, structures, and components on both units are typically identical or similar. These statements are supported by a review of the St. Lucie Unit 2 Updated Final Safety Analysis Report (UFSAR). In particular, Section 1.3 of the UFSAR describes the similarities in design between the units. Table 1.3-1 of the UFSAR lists significant similarities between systems, structures, and components installed at both Units 1 and 2, including elements of the reactor system, the reactor coolant system, and engineered safety features.

St. Lucie Unit 2 is physically located adjacent to Unit 1. As such, the external environments would be similar for both units. Internal environments for both units are also similar due to the similarity in plant design and operation.

FPL also stated that many of the procedures that govern site activities are not unit specific and require the consideration of operating experience at the St. Lucie Plant. An administrative procedure governs the review and dissemination of operating experience obtained from both internal and external sources. If an item is potentially applicable to the St. Lucie Plant, the item is addressed in the plant's corrective action process. Nonconforming or degraded equipment on one unit must consider the condition on the other unit.

Because of the similarities between units, FPL does not divide the plant organizations by unit and typically assigns personnel to work on either unit. Licensed operators at St. Lucie receive training on both units and are licensed by the NRC to operate either unit. Having personnel assigned to work on both units facilitates the identification and transfer of operating experience between the units.

Given the similarities between units, the operating experience at Unit 1 is applicable to Unit 2 for purposes of the license renewal review. At the time of the exemption request, Unit 1 had achieved over 24 years of operating experience, which are applicable to Unit 2. Unit 2 has operated for over 17 years, which provides a substantial period of additional plant-specific operating experience to supplement the Unit 1 operating experience. The combined years of operating experience of Unit 1 and Unit 2 should be sufficient to identify any aging concerns applicable to the two units.

Therefore, sufficient combined operating experience exists to satisfy the intent of § 54.17(c), and the application of the regulation in this case is not necessary to achieve the underlying purpose of the rule. The staff finds that FPL's request meets the requirement in Section 50.12(a)(2)(ii) that special circumstances exist to grant the exemption.

4.0 Conclusion

Accordingly, the Commission has determined that, pursuant to 10 CFR 50.12(a), the exemption is authorized by law, will not present an undue risk to the public health and safety, and is consistent with the common defense and security. Also, special circumstances are present. Therefore, the Commission hereby grants FPL the exemption sought from the requirements of 10 CFR 54.17(c) for St. Lucie Unit 2 based on the circumstances described herein.

Pursuant to 10 CFR 51.32, the Commission has determined that the granting of this exemption will not have a significant effect on the quality of the human environment (66 FR 10759).

This exemption is effective upon issuance.

Dated at Rockville, Maryland, this 27th day of February 2001.
For the Nuclear Regulatory Commission.
John A. Zwolinski,
Director, Division of Licensing Project Management, Office of Nuclear Reactor Regulation.

[FR Doc. 01-5396 Filed 3-5-01; 8:45 am]

BILLING CODE 7590-01-P